DEPARTMENT OF COMMERCE

International Trade Administration

Initiation of Five-Year (“Sunset”) Review; Correction

AGENCY: Import Administration, International Trade Administration, Department of Commerce.

SUMMARY: On May 1, 2012, the Department of Commerce (“the Department”) published a notice in the Federal Register that incorrectly identified the antidumping duty order for which a five-year review (“Sunset Review”) was being initiated.¹ This notice is a correction.

¹ See Initiation of Five-Year (“Sunset”) Review, 77 FR 25683 (May 1, 2012) (“Initiation Notice”)

DATES: Effective Date: May 1, 2012.

FOR FURTHER INFORMATION CONTACT: Brenda E. Waters, Office of AD/CVD Operations, Customs Unit, Import Administration, International Trade Administration, U.S. Department of Commerce, 14th Street and Constitution Avenue NW., Washington, DC 20230, telephone: (202) 482-4735.

SUPPLEMENTARY INFORMATION:

Background

In the Initiation Notice published in the Federal Register on May 1, 2012, the Department incorrectly identified “Activated Cabron [sic]” from the People's Republic of China as the antidumping duty order for which a five-year review (“Sunset Review”) was being initiated. The Department is now correcting that notice: the antidumping duty order order for which the Department is inititiating a sunset review is Polyester Staple Fiber from China. The initiation is effective May 1, 2012.

Correction of Initiation of Review

In accordance with 19 CFR 351.218(c), effective May 1, 2012, we are initiating the Sunset Review of the following antidumping duty order:

DOC Case No. | ITC Case No. | Country | Product | Department contact
A-570-905 | 731-TA-709 | China | Polyester Staple Fiber (1st Review) | Jennifer Moats (202) 482-5047.

Effect of Correction of Initiation Notice

Additional information concerning the Department's Sunset proceedings can be found in the “Filing Information” and “Information Required From Interested Parties” sections of the Initiation Notice.² All filing requirements and deadlines under section 751(c) of the Tariff Act of 1930, as amended (“the Act”), and 19 CFR 351.218 for the above-identified Sunset Review were established with publication of the Initiation Notice on May 1, 2012. Because of the circumstances requiring this correction of the Intiation Notice, and pursuant to 19 CFR 351.302(b), the Department will consider requests from interested parties for the extension of the deadlines established by 19 CFR 351.218(d)(1)(i) for filing of a notice of intent to particpate, by 19 CFR 351.218(d)(2)(i) for filing of a statement of waiver, and by 19 CFR 351.218(d)(3)(i) for filing of a substantive response.

² See id. at 25684.

This correction of the notice of initiation is published in accordance with section 751(c) of the Act and 19 CFR 351.218(c).

Dated: May 8, 2012.
Christian Marsh,
Deputy Assistant Secretary for Antidumping and Countervailing Duty Operations.

[FR Doc. 2012-11607 Filed 5-11-12; 8:45 am]

BILLING CODE 3510-DS-P